DEPARTMENT OF ENERGY

Federal Energy Regulatory Commission

[Docket No. EC05-59-000, et al.]

MxEnergy Electric Inc., et al.; Electric Rate and Corporate Filings

March 21, 2005.

The following filings have been made with the Commission. The filings are listed in ascending order within each docket classification.

1. MxEnergy Electric Inc.; Total Gas & Electricity (PA), Inc.

[Docket Nos. EC05-59-000 and ER04-170-005]

Take notice that on March 16, 2005, MxEnergy Electric Inc. (MxEnergy Electric) and Total Gas & Electricity (PA), Inc. (TG&E PA) (collectively, Applicants) submitted an application pursuant to section 203 of the Federal Power Act for authorization for the disposition of jurisdictional facilities related to the internal corporate reorganization of Applicants' upstream owner MxEnergy Inc. (MxEnergy). Applicants state as a result of the reorganization, TG&E PA will be a wholly-owned direct subsidiary of MxEnergy Electric, which, in turn, will be a wholly-owned indirect subsidiary of a newly formed holding company (MxEnergy Holdings Inc.) owned by the existing shareholders of MxEnergy. In addition, MxEnergy Electric submitted a notice of change in status, triennial updated market analysis, and revised tariff sheet incorporating language required by Order No. 652 issued February 2, 2005 in Docket No. RM04-14-000.

Comment Date: 5 p.m. Eastern Time on April 6, 2005.

2. San Diego Gas & Electric Company v. Sellers of Energy and Ancillary Services into Markets Operated by the California Independent System Operator and the California Power Exchange; Investigation of Practices of the California Independent System Operator and the California Power Exchange

[Docket Nos. EL00-95-126 and EL00-98-113]

Take notice that on March 16, 2005, the California Independent System Operator (CAISO) tendered for filing a refund report pursuant to the Commission's order issued February 14, 2005 in Docket No. EL00-95-091, et al., 110 FERC ¶ 61,144 (2005).

Comment Date: 5 p.m. Eastern Time on April 6, 2005.

3. Roseburg Forest Products Company

[Docket Nos. ER01-2830-002]

Take notice that on March 16, 2005, Roseburg Forest Products Company (RFP) submitted an updated market power analysis. RFP also submitted revised tariff sheets incorporating its market behavior rules pursuant to Investigation of Terms and Conditions of Public Utility Market-Based Rate Authorizations, Docket Nos. EL01-118-000 and EL01-118-001, 105 FERC ¶ 61,218 (Nov. 17, 2003).

Comment Date: 5 p.m. Eastern Time on April 6, 2005.

4. Allegheny Energy Supply Company, LLC; Monongahela Power Company

[Docket No. ER04-81-001]

Take notice that on March 15, 2005, Allegheny Energy Supply Company, LLC and Monongahela Power Company submitted their report of refunds pursuant to the Commission's order issued February 14, 2005 in Docket No. ER04-81-000, 110 FERC ¶ 61,152 (2005).

Comment Date: 5 p.m. Eastern Time on April 5, 2005.

5. Pacific Gas and Electric Company

[Docket Nos. ER04-377-005 and ER04-743-003]

Take notice that on February 8, 2005, Pacific Gas and Electric Company (PG&E) tendered for filing a refund compliance report pursuant to the Commission's Order Approving Uncontested Settlement, issued December 22, 2004, 109 FERC ¶ 61,352 (2004).

PGE states that a copy of this filing has been served on La Paloma, the California Independent System Operator Corporation, the California Public Utilities Commission and the official service list.

Comment Date: 5 p.m. Eastern Time on March 31, 2005.

6. The Union Light, Heat and Power Company, The Cincinnati Gas & Electric Company

[Docket No. ER04-1248-002]

Take notice that on March 15, 2005, The Union Light, Heat and Power Company (ULH&P) and the Cincinnati Gas & Electric Company (CG&E) submitted a compliance filing pursuant to the Commission's March 3, 2005 Order, 110 FERC ¶ 61, 212 (2005).

ULH&P and CG&E state that copies of the filing were served on parties on the official service list.

Comment Date: 5 p.m. Eastern Time on April 5, 2005.

7. American Electric Power Service Corporation

[Docket No. ER05-286-001]

Take notice that on March 15, 2005, American Electric Power Service Corporation (AEPSC), in response to the Commission's deficiency letter issued January 19, 2005 in Docket No. ER05-286-000, submitted for filing an amendment to its December 2, 2004 filing of Notices of Cancellation for a Network Service Agreement and a Network Operating Agreement between Oklahoma Municipal Power Authority and Central and South West Services, Inc., designated agent for Central Power and Light Company, Public Service Company of Oklahoma, Southwestern Electric Power Company, and West Texas Utilities Company. AEPSC request an effective date of January 1, 2005 for the cancellations.

AEPSC states that it served copies of the filing on Oklahoma Municipal Power Authority and the Public Utility Commission of Texas, the Oklahoma Corporation Commission, the Louisiana Public Service Commission and the Arkansas Public Service Commission.

Comment Date: 5 p.m. Eastern Time on April 5, 2005.

8. Pinelawn Power LLC

[Docket No. ER05-305-002]

Take notice that on March 16, 2005, Pinelawn Power LLC submitted a filing in compliance with the Commission's order issued February 15, 2005 in Docket Nos. ER05-305-000 and 001, 110 FERC ¶ 61,160 (2005).

Comment Date: 5 p.m. Eastern Time on April 6, 2005.

9. Portland General Electric Company

[Docket No. ER05-585-001]

Take notice that on March 16, 2005, Portland General Electric Company (PGE) tendered for filing new and revised tariff sheets to its Open Access Transmission Tariff (OATT) to incorporate the changes to the Pro Forma Large Generator Interconnection Procedures (LGIP) and Large Generator Interconnection Agreement (LGIA) issued by the Commission in FERC Order No. 2003-B on December 20, 2004 and formatting requirements of Order No. 614. This filing is an amendment to PGE's filing of February 14, 2005 in Docket No. ER05-585-000. PGE requests an effective date of January 19, 2005 for the requested changes.

PGE states that a copy of this filing was supplied to the Public Utility Commission of Oregon.

Comment Date: 5 p.m. Eastern Time on April 6, 2005.

10. Cabrillo Power I and Cabrillo Power II LLC

[Docket No. ER05-708-000]

Take notice that on March 15, 2005, Cabrillo Power I LLC (Cabrillo I) and Cabrillo Power II LLC (Cabrillo II) (jointly, Cabrillo) tendered for filing an amendment to certain sheets of Cabrillo I's First Revised Rate Schedule FERC No. 2 and Cabrillo II's First Revised Rate Schedule FERC No. 2 to incorporate the Reliability Must-Run Service Agreement between the California Independent System Operator Corporation and Cabrillo I and Cabrillo II. Cabrillo requests an effective date of April 1, 2005.

Cabrillo states that copies of the filing were served upon the official service list in Docket No. ER04-308-000.

Comment Date: 5 p.m. Eastern Time on April 5, 2005.

11. Virginia Electric and Power Company

[Docket No. ER05-709-000]

Take notice that on March 16, 2005, Virginia Electric and Power Company (Dominion) tendered for filing copies of a letter agreement between Dominion and Virginia Municipal Electric Association No. 1 (VMEA). Dominion states that the letter agreement provides for a delivery point requested by VMEA to the agreement for the Purchase of Electricity for Resale between Dominion and VMEA, First Revised Rate Schedule FERC No. 109. Dominion requests an effective date of March 17, 2005.

Dominion states that copies of the filing were served upon VMEA, the Virginia State Corporation Commission and the North Carolina Utilities Commission.

Comment Date: 5 p.m. Eastern Time on April 6, 2005.

12. AEP Texas North Company

[Docket No. ER05-710-000]

Take notice that on March 16, 2005, American Electric Power Service Corporation (AEPSC) as agent for AEP Texas North Company (AEPTNC) submitted for filing an interconnection agreement between AEPTNC and Western Farmers Electric Cooperative reflecting all of the present interconnection arrangements between the parties and replaces the previous interconnection arrangements agreed to in 1966. AEPTNC requests an effective date of March 7, 2005.

AEPSC states that copies were served on Western Farmers Electric Cooperative and the Public Utility Commission of Texas.

Comment Date: 5 p.m. Eastern Time on April 6, 2005.

13. AEP Texas North Company

[Docket No. ER05-711-000]

Take notice that on March 16, 2005, American Electric Power Service Corporation (AEPSC) as agent for AEP Texas North Company (AEPTNC) submitted for filing an executed interconnection agreement between AEPTNC and Buffalo Gap Wind Farm, LLC. AEPSC states that the agreement provides for the interconnection of Buffalo Gap's future wind farm generation project near Abilene, Texas. AEPTNC seeks an effective date of February 28, 2005.

AEPSC states that it has served copies of the filing on Buffalo Gap and the Public Utility Commission of Texas.

Comment Date: 5 p.m. Eastern Time on April 6, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1397 Filed 3-29-05; 8:45 am]

BILLING CODE 6717-01-P